GENERAL SERVICES ADMINISTRATION

[OMB Control No. 3090-0293; Docket No. 2024-0001; Sequence No. 5]

Information Collection; Reporting and Use of Information Concerning Integrity and Performance of Recipients of Grants and Cooperative Agreements

AGENCY: Office of Technology Strategy/Office of Government-wide Policy, General Services Administration (GSA).

ACTION: Notice and request for comments.

SUMMARY: Under the provisions of the Paperwork Reduction Act, the Regulatory Secretariat Division (MVCB) will be submitting to the Office of Management and Budget (OMB) a request to review and approve a revision and renewal of the currently approved information collection requirement on the reporting and use of information concerning integrity and performance of recipients of grants and cooperative agreements.

DATES: Submit comments on or before June 11, 2024.

ADDRESSES: Submit comments identified by Information Collection 3090-0293; Reporting and Use of Information Concerning Integrity and Performance of Recipients of Grants and Cooperative Agreements to http://www.regulations.gov.

Submit comments via the Federal eRulemaking portal by searching the OMB control number 3090-0293. Select the link “Comment Now” that corresponds with “Information Collection 3090-0293, Reporting and Use of Information Concerning Integrity and Performance of Recipients of Grants and Cooperative Agreements. Follow the instructions provided on the screen. Please include your name, company name (if any), and “Information Collection 3090-0293, Reporting and Use of Information Concerning Integrity and Performance of Recipients of Grants and Cooperative Agreements” on your attached document. If your comment cannot be submitted using regulations.gov, call or email the points of contact in the FOR FURTHER INFORMATION CONTACT section of this document for alternate instructions.

Instructions: Please submit comments only and cite Information Collection 3090-0293, Reporting and Use of Information Concerning Integrity and Performance of Recipients of Grants and Cooperative Agreements, in all correspondence related to this collection. Comments received generally will be posted without change to regulations.gov, including any personal and/or business confidential information provided. To confirm receipt of your comment(s), please check regulations.gov, approximately two-to-three business days after submission to verify posting.

FOR FURTHER INFORMATION CONTACT: Ms. Salomeh Ghorbani, Director, IAE Outreach and Stakeholder Engagement Division, at 703-605-3467 or IAE_Admin@gsa.gov.

SUPPLEMENTARY INFORMATION:

A. Purpose

This information collection requirement, OMB Control No. 3090-0293, currently titled “Reporting and Use of Information Concerning Integrity and Performance of Recipients of Grants and Cooperative Agreements” is necessary in order to comply with section 872 of the Duncan Hunter National Defense Authorization Act of 2009, Public Law 110-417, as amended by Public Law 111-212, hereafter referred to as “the Act.” The Duncan Hunter National Defense Authorization Act of 2009 (Pub. L. 110-417) was enacted on October 14, 2008. Section 872 of this Act required the development and maintenance of an information system that contains specific information on the integrity and performance of covered Federal agency contractors and grantees.

The Federal Awardee Performance and Integrity Information System (FAPIIS) was developed to address these requirements and has been superseded by the System for Award Management (SAM) at SAM.gov. SAM provides users access to integrity information from the FAPIIS reporting module in the Contractor Performance Assessment Reporting System (CPARS), proceedings information from the Entity Management section of the SAM database, and suspension/debarment information from the Exclusions section of SAM.

As required by 2 CFR part 200 Uniform Administrative Requirements, Cost Principles, and Audit Requirements for Federal Awards, effective January 1, 2016, Federal agencies are required to review and consider any information about the applicant that is in SAM before making any award in excess of the simplified acquisition threshold, defined in 41 U.S.C. 134, over the period of performance.

Non-Federal entities (NFEs) are required to disclose any information about criminal, civil, and administrative proceedings, and/or affirm that there is no new information to provide. This applies to NFEs that receive Federal awards (currently active grants, cooperative agreements, and procurement contracts), as required by 45 CFR part 75, Appendix XII, of the Uniform Guidance, for any period of time during the period of performance of an award/project.

B. Annual Reporting Burden

Proceedings Screening Question #1

Respondents: 19,152.

Responses per Respondent: 1.

Total annual responses: 19,152.

Hours per response: .1.

Total response burden hours: 1,915.

Proceedings Screening Question #2

Respondents: 141.

Responded per Respondent: 1.

Total annual responses: 141.

Hours per response: .1.

Total response burden hours: 14.

Proceedings Details

Respondents: 141.

Responses per respondent: 2.

Total annual responses: 282.

Hours per response: .5.

Total response burden hours: 141.

C. Public Comments

Public comments are particularly invited on: Whether this collection of information is necessary, whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

Obtaining Copies: Requesters may obtain a copy of the information collection documents from the GSA Regulatory Secretariat Division by calling 202-501-4755 or emailing GSARegSec@gsa.gov. Please cite OMB Control No. OMB Control No. 3090-0293, Reporting and Use of Information Concerning Integrity and Performance of Recipients of Grants and Cooperative Agreements, in all correspondence.

Lois Mandell,
Director, Regulatory Secretariat Division, General Services Administration.

[FR Doc. 2024-07804 Filed 4-11-24; 8:45 am]

BILLING CODE 6820-WY-P